DEPARTMENT OF TRANSPORTATION

Federal Aviation Administration

[Docket No. FAA-2007-28350]

Notice of Availability and Public Comment Period for the Draft Air Quality General Conformity Determination (DGCD) for Proposed Southwest Airlines Commercial Air Service at San Francisco International Airport, San Francisco, CA

AGENCY: Federal Aviation Administration (FAA), Department of Transportation (DOT).

ACTION: Notice of availability of the Draft Air Quality General Conformity Determination and notice of public comment period.

SUMMARY: The FAA is issuing this notice to advise the public that FAA has prepared a Draft General Conformity Determination (DGCD) for Proposed Operations of Southwest Airlines Co. (Southwest) at San Francisco International Airport (SFO). In accordance with Section 176(c) of the Clean Air Act (CAA), FAA has assessed whether the emissions that would result from FAA's action in approving the proposed operation specifications (OpSpec) for Southwest's proposed operations at SFO conform to the California State Implementation Plan (SIP).

DATES: Submit comments on or before August 30, 2007.

ADDRESSES: The DGCD is available for review until August 30, 2007:

1. Electronically on the Department of Transportation's Docket Management System (DMS) at http://dms.dot.gov/. Do a simple search for docket number 28350.

2. Hard copies are available for review between 9 a.m. and 4:30 p.m. at SFO at the offices of the City of San Francisco: Planning Design & Construction, Singapore/Delta Building, 710 N. McDonnell Road, Second Floor, Suite S232, San Francisco, CA 94128.

3. To request mailed hard copies of the DGCD, contact Ms. Joan Seward, All Weather Operations Program Manager ASW-230.1, FAA SW. Region, 2601 Meacham Boulevard, Forth Worth, TX 76137; telephone: 817-222-5256; e-mail: Joan.M.Seward@faa.gov.

You may submit comments, identified by docket number FAA-2007-28350, by any of the following methods:

1. By mail to: Docket Management Facility, U.S. Department of Transportation, 1200 New Jersey Avenue, SE., Washington, DC 20590-0001;

2. By hand delivery to Docket Management Facility 1200 New Jersey Avenue, SE., Washington, DC, between 9 a.m. and 5 p.m., Monday through Friday, except Federal holidays;

3. By fax to the Docket Management Facility at 202-493-2251; or

4. By electronic submission through the DMS Web site at http://dms.dot.gov/submit/. See SUPPLEMENTARY INFORMATION for additional information about electronic filing.

FOR FURTHER INFORMATION CONTACT: Ms. Joan Seward, telephone: 817-222-5256; e-mail: Joan.M.Seward@faa.gov.

SUPPLEMENTARY INFORMATION: On March 2, 2007, Southwest submitted a request to FAA for approval to re-initiate scheduled passenger service at SFO commencing August 26, 2007. Southwest had served SFO until February 2001, but discontinued service. As required by Title 14 of the Code of Federal Regulations (14 CFR 119.51), Southwest applied to the FAA to amend Southwest's OpSpecs to include SFO, thereby authorizing Southwest to conduct scheduled SFO service. The request to the FAA detailed Southwest's startup plans, commencing on August 26, 2007, with 18 daily landing/take-off cycles (LTOs), which would produce emissions below the General Conformity de minimis thresholds, and contained other information for the FAA to conduct the environmental review required under the regulations implementing the National Environmental Policy Act (NEPA) (40 CFR parts 1500-1508), Section 176(c) of the Clean Air Act (CAA) (40 CFR 93.150 et seq.), and by FAA Order 1050.1E Environmental Impacts: Policies and Procedures. FAA issued an OpSpec to Southwest for this initial level of operations accompanied by a NEPA environmental categorical exclusion determining that the 18 daily LTOs were below de minimis thresholds and were not regionally significant. Southwest wishes to grow their operations to 40 LTOs within 2 years.

Comment Filing Instructions

All submissions received must include the agency name and docket number or Regulatory Information Number (RIN).

You may submit comments electronically through the DMS Web site at http://dms.dot.gov/submit/. You have the option of submitting comments either by typing your comment into the DMS or by uploading a previously completed comment document as a file. If you upload a file it must be in one of the following file format types: MSWord (versions 95-97); MSWord for Mac (versions 6-8); Rich Text File (RTF); American Standard Code Information Interchange (ASCII)(TXT); Portable Document Format (PDF); or WordPerfect (WPD) (versions 7-8). See the Electronic Submission Help & Guidelines screen at http://dms.dot.gov/help/es_help.cfm for additional guidance.

The FAA will accept comments on the DCGD until August 30, 2007. Written comments must be postmarked and electronic submissions received by not later than midnight August 30, 2007. After FAA reviews and addresses all comments, FAA will publish a notice of availability of the Final General Conformity Determination.

Issued in Washington, DC, on July 25, 2007.
Carol E. Giles,
Acting Director, Flight Standards Service.

[FR Doc. 07-3720 Filed 7-30-07; 8:45 am]

BILLING CODE 4910-13-M